GENERAL SERVICES ADMINISTRATION

Office of Communications; Cancellation of an Optional Form by the Department of Defense

AGENCY: General Services Administration.

ACTION: Notice.

SUMMARY: The Department of Defense canceled the following Optional Form because of low usage: OF 80, 999 (Label) (Small)

DATES: Effective May 31, 2001.

FOR FURTHER INFORMATION CONTACT: Ms. Barbara Williams, General Services Administration, (202) 501-0581.

Dated: April 6, 2001.
Barbara M. Williams,
Deputy Standard and Optional Forms Management Officer, General Services Administration.

[FR Doc. 01-13686 Filed 5-30-01; 8:45 am]

BILLING CODE 6820-34-M